DEPARTMENT OF TRANSPORTATION

Federal Aviation Administration

Notice of Intent To Prepare an Environmental Assessment, Notice of Public Meetings, and Notice To Request Public Scoping Comments for the Air Tour Management Plan Program at Golden Gate National Recreation Area, San Francisco Maritime National Historical Park and Point Reyes National Seashore

AGENCY: Federal Aviation Administration (FAA), DOT.

ACTION: Notice of Intent to Prepare an Environmental Assessment, Notice of Public Meetings, and Notice to Request Public Scoping Comments.

The FAA, with the National Park Service (NPS) as a cooperating agency, has initiated development of Air Tour Management Plans (ATMPs) for Golden Gate National Recreation Area (GGNRA) and Point Reyes National Seashore (the Seashore). The ATMP for GGNRA will include Muir Woods National Monument and Fort Point National Historic Site, both directly managed by GGNRA, and the San Francisco Maritime National Historical Park (SF Maritime NHP), an independently managed national park unit adjacent to GGNRA.

The ATMPs are being developed pursuant to the National Parks Air Tour Management Act (NPATMA) of 2000 (Pub. L. 106-181) and its implementing regulations (14 Code of Federal Regulation [CFR] Part 136, Subpart B, National Parks Air Tour Management). Per section 40128(b)(1)(B) of NPATMA, the objective of an ATMP shall be to develop acceptable and effective measures to mitigate or prevent significant adverse impacts, if any, of commercial air tour operations upon the natural and cultural resources, visitor experiences and tribal lands within or abutting GGNRA and the Seashore. It should be noted that an ATMP has no authorization over other non-air-tour operations such as military and general aviation. In compliance with the National Environmental Policy Act of 1969 (NEPA) and FAA Order 1050.1E, an Environmental Assessment (EA) is being prepared.

The FAA has granted Interim Operating Authority (IOA) to two commercial air tour operators to conduct air tours over GGNRA, SF Maritime NHP, and the Seashore. The FAA and NPS are now inviting the public, agencies, tribes, and other interested parties to provide comments, suggestions, and input on the scope of issues and range of alternatives to be addressed in the environmental process.

The FAA and NPS are also hosting public scoping meetings to inform the public and other interested parties about the ATMP program and to provide the opportunity for comments.

DATES: By this notice, the FAA is requesting comments on the scope of the EA for the individual ATMPs at GGNRA and SF Maritime NHP, and the Seashore. Comments must be submitted by September 28, 2011.

Meetings: The meetings will be held at the following location, dates, and times:

August 16, 2011: 4:30-6:30 p.m.

GGNRA Headquarters, Fort Mason Building 201, San Francisco, CA.

August 17, 2011: 4:30-6:30 p.m.

Bay Model Visitor Center, 2100 Bridgeway, Sausalito, CA.

FOR FURTHER INFORMATION CONTACT: Keith Lusk, Mailing address: P.O. Box 92007, Los Angeles, California 90009-2007. Telephone: (310) 725-3808. Street address: 15000 Aviation Boulevard, Lawndale, California 90261. Written comments on the scope of the EA should be submitted electronically via the electronic public comment form on the NPS Planning, Environment and Public Comment Web site at: http://parkplanning.nps.gov/BayArea_ATMP, provided in writing at one of the public meetings/open houses, or sent to the mailing address above.

SUPPLEMENTARY INFORMATION: A public scoping packet that describes the project in greater detail is available at:

• http://parkplanning.nps.gov/BayArea_ATMP.

• http://www.faa.gov/about/office_org/headquarters_offices/arc/programs/air_tour_management_plan/.

Notice Regarding FOIA: Individuals may request that their name and/or address be withheld from public disclosure. If you wish to do this, you must state this prominently at the beginning of your comment. Commentators using the Web site can make such a request by checking the box “keep my contact information private.” Such requests will be honored to the extent allowable by law, but you should be aware that pursuant to the Freedom of Information Act, your name and address may be disclosed. We will make all submissions from organizations, businesses, and from individuals identifying themselves as representatives or officials of organizations or businesses available for public inspection in their entirety.

Issued in Hawthorne, CA on July 21, 2011.
Larry Tonish,
Program Manager, Special Programs Staff, Western-Pacific Region.

[FR Doc. 2011-19050 Filed 7-27-11; 8:45 am]

BILLING CODE 4910-13-P